SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before April 27, 2004.

ADDRESSES: Send all comments regarding whether this information collection is necessary for the proper performance of the function of the agency, whether the burden estimates are accurate, and if there are ways to minimize the estimated burden and enhance the quality of the collection, to George Solomon, Supervisory Business Development Officer, Office of Business and Community Initiatives, Small Business Administration, 409 3rd Street SW., Suite 6100, Washington, DC 20416.

FOR FURTHER INFORMATION CONTACT: George Solomon, Supervisory Business Development Officer, 202-205-7426 or Curtis B. Rich, Management Analyst, 202-205-7030.

SUPPLEMENTARY INFORMATION: Title: “Economic Impact.”

Description of Respondents: Small Business Client small business owners & employees, prospective entrepreneurs and other students of enterprise.

Form No: 2214.

Annual Responses: 14,000.

Annual Burden: 2,333.

Jacqueline White,
Chief, Administrative Information Branch.

[FR Doc. 04-4336 Filed 2-26-04; 8:45 am]

BILLING CODE 8025-01-P